DEPARTMENT OF LABOR

Occupational Safety and Health Administration

[Docket No. NRTL3-92]

TUV Rheinland of North America, Inc., Renewal of Recognition

AGENCY: Occupational Safety and Health Administration (OSHA), Labor.

ACTION: Notice.

SUMMARY: This notice announces the Agency's final decision on the application of the TUV Rheinland of North America, Inc. (TUV), for renewal of its recognition as a Nationally Recognized Testing Laboratory under 29 CFR 1910.7.

EFFECTIVE DATE: The renewal becomes effective on March 18, 2002 and will be valid until March 19, 2007, unless terminated or modified prior to that date, in accordance with 29 CFR 1910.7.

FOR FURTHER INFORMATION CONTACT: Bernard Pasquet or Sherrey Nicolas, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Application

The Occupational Safety and Health Administration (OSHA) hereby gives notice of the renewal of recognition of TUV Rheinland of North America, Inc. (TUV), as a Nationally Recognized Testing Laboratory (NRTL). The NRTL's scope of recognition may be found in OSHA's informational web page for the NRTL (http://www.osha-slc.gov/dts/otpca/nrtl/tuv.html).

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope.

TUV Rheinland of North America, Inc., is a privately held Product Safety and Quality Assurance Testing firm with offices throughout the United States and Canada. TUV is wholly owned by TUV Rheinland e. V. of Cologne, Germany. TUV is a U.S. corporation incorporated in the state of Delaware in 1983.

TUV received its recognition as an NRTL on August 16, 1995 (60 FR 42594), for a period of five years ending August 16, 2000. Appendix A to 29 CFR 1910.7 stipulates that the period of recognition of an NRTL is five years and that an NRTL may renew its recognition by applying not less than nine months, nor more than one year, before the expiration date of its current recognition. TUV submitted its renewal request on November 16, 1999 (see Exhibit 23), within the time allotted, and TUV retains its recognition pending OSHA's final decision in this renewal process.

In processing TUV's request, OSHA performed an on-site review of TUV's facility listed below. Following the on-site evaluation, NRTL Program staff recommended the renewal of TUV's recognition (see Exhibit 24).

OSHA published the required notice in the Federal Register on January 28, 2002 (67 FR 3913), to announce TUV's renewal request. This notice included a preliminary finding that TUV could meet the requirements in 29 CFR 1910.7 for renewal of its recognition and invited public comment by February 15. OSHA received no comments concerning this notice.

The previous notice published by OSHA for TUV's recognition covered a modification to its scope of recognition, which became effective on September 12, 2001 (66 FR 47505). The following Federal Register notices related to TUV's recognition have also been published by OSHA to address an expansion of its recognition for additional standards or programs: a request announced on March 2, 2000 (65 FR 11197), and granted on June 8, 2000 (65 FR 39946); and requests announced on December 12, 1997 (62 FR 65446), and January 8, 1998 (63 FR 1127), and granted on April 2, 1998 (63 FR 16280). The renewal incorporates all recognitions granted to TUV through the date of publication of the preliminary finding.

You may obtain or review copies of all public documents pertaining to the TUV application by contacting the Docket Office, Occupational Safety and Health Administration, U.S. Department of Labor, 200 Constitution Avenue, NW., Room N2625, Washington, DC 20210. You should refer to Docket No. NRTL3-92, the permanent record of public information on the TUV recognition.

The current address of the TUV testing facility already recognized by OSHA is: TUV Rheinland of North America, Inc., 12 Commerce Road, Newtown, Connecticut 06470.

Programs and Procedures

The renewal of recognition includes TUV's continued use of the following supplemental programs and procedures, based upon the criteria detailed in the March 9, 1995 Federal Register notice (60 FR 12980, 3/9/95). This notice lists nine (9) programs and procedures (collectively, programs), eight of which an NRTL may use to control and audit, but not actually to generate, the data relied upon for product certification. An NRTL's initial recognition will always include the first or basic program, which requires that all product testing and evaluation be performed in-house by the NRTL that will certify the product. OSHA has already recognized TUV for these programs, which are listed, as shown below, in OSHA's informational web page on the TUV recognition (http://www.osha-slc.gov/dts/otpca/nrtl/tuv.html).

Program 2: Acceptance of testing data from independent organizations, other than NRTLs.

Program 3: Acceptance of product evaluations from independent organizations, other than NRTLs.

Program 4: Acceptance of witnessed testing data.

Program 8: Acceptance of product evaluations from organizations that function as part of the International Electrotechnical Commission Certification Body (IEC-CB) Scheme.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs help to define the scope of that recognition.

Existing Condition

Currently, OSHA imposes the following condition on its recognition of TUV as an NRTL, and continues to impose the condition as part of the renewal. This condition applies solely to TUV's operations as an NRTL and is in addition to any other condition that OSHA normally imposes in its recognition of an organization as an NRTL. This condition is listed first under the “Conditions” section below and provides as follows:

TUV must have specific written testing procedures in place before testing products covered by any test standard for which it is recognized and must use these procedures in testing and certifying those products.

Final Decision and Order

The NRTL Program staff has examined the application, the assessor's report, and other pertinent information. Based upon this examination and the assessor's recommendation, OSHA finds that the TUV Rheinland of North America, Inc., has met the requirements of 29 CFR 1910.7 for renewal of its NRTL recognition. The renewal applies to the site listed above. In addition, it covers the test standards listed below, and it is subject to the limitations and conditions, also listed below. Pursuant to the authority in 29 CFR 1910.7, OSHA hereby renews the recognition of TUV, subject to these limitations and conditions.

Limitations

OSHA limits the renewal of recognition of TUV to the site listed above. OSHA further limits the renewal of recognition of TUV to testing and certification of products for demonstration of conformance to the test standards listed below. OSHA has determined that each test standard meets the requirements for an appropriate test standard, within the meaning of 29 CFR 1910.7(c).

UL 22 Amusement and Gaming Machines

UL 48 Electric Signs

UL 67 Panelboards

UL 73 Motor-Operated Appliances

UL 82 Electric Gardening Appliances

UL 122 Photographic Equipment

UL 130 Electric Heating Pads

UL 136 Pressure Cookers

UL 141 Garment Finishing Appliances

UL 153 Portable Electric Lamps

UL 174 Household Electric Storage Tank Water Heaters

UL 197 Commercial Electric Cooking Appliances

UL 250 Household Refrigerators and Freezers

UL 298 Portable Electric Hand Lamps

UL 430 Waste Disposers

UL 469 Musical Instruments and Accessories

UL 471 Commercial Refrigerators and Freezers

UL 474 Dehumidifiers

UL 482 Portable Sun/Heat Lamps

UL 499 Electric Heating Appliances

UL 506 Specialty Transformers

UL 507 Electric Fans

UL 508 Industrial Control Equipment

UL 508C Power Conversion Equipment

UL 541 Refrigerated Vending Machines

UL 544 Electric Medical and Dental Equipment

UL 561 Floor Finishing Machines

UL 583 Electric-Battery-Powered Industrial Trucks

UL 621 Ice Cream Makers

UL 696 Electric Toys

UL 697 Toy Transformers

UL 745 1 Portable Electric Tools

UL 745 2 1 Particular Requirements of Drills

UL 745 2 2 Particular Requirements for Screwdrivers and Impact Wrenches

UL 745 2 3 Particular Requirements for Grinders, Polishers, and Disk-Type Sanders

UL 745 2 4 Particular Requirements for Sanders

UL 745 2 5 Particular Requirements for Circular Saws and Circular Knives

UL 745 2 6 Particular Requirements for Hammers

UL 745 2 8 Particular Requirements for Shears and Nibblers

UL 745 2 9 Particular Requirements for Tappers

UL 745 2 11 Particular Requirements for Reciprocating Saws

UL 745 2 12 Particular Requirements for Concrete Vibrators

UL 745 2 14 Particular Requirements for Planers

UL 745 2 17 Particular Requirements for Routers and Trimmers

UL 745 2 30 Particular Requirements for Staplers

UL 745 2 31 Particular Requirements for Diamond Core Drills

UL 745 2 32 Particular Requirements for Magnetic Drill Presses

UL 745 2 33 Particular Requirements for Portable Bandsaws

UL 745 2 34 Particular Requirements for Strapping Tools

UL 745 2 35 Particular Requirements for Drain Cleaners

UL 745 2 36 Particular Requirements for Hand Motor Tools

UL 745 2 37 Particular Requirements for Plate Jointers

UL 749 Household Dishwashers

UL 751 Vending Machines

UL 763 Motor-Operated Commercial Food Preparing Machines

UL 775 Graphic Arts Equipment

UL 778 Motor Operated Water Pumps

UL 826 Household Electric Clocks

UL 858 Household Electric Ranges

UL 859 Household Electric Personal Grooming Appliance

UL 867 Electrostatic Air Cleaners

UL 875 Electric Dry Bath Heaters

UL 921 Commercial Electric Dishwashers

UL 923 Microwave Cooking Appliances

UL 935 Fluorescent-Lamp Ballasts

UL 961 Electric Hobby and Sports Equipment

UL 982 Motor-Operated Household Food Preparing Machines

UL 984 Hermetic Refrigerant Motor-Compressors

UL 987 Stationary and Fixed Electric Tools

UL 1004 Electric Motors

UL 1005 Electric Flatirons

UL 1012 Power Units Other than Class Two

UL 1017 Vacuum Cleaning Machines and Blower Cleaners

UL 1018 Electrc Aquarium Equipment

UL 1026 Electric Household Cooking and Food-Serving Appliances

UL 1028 Hair Clipping and Shaving Appliances

UL 1042 Electric Baseboard Heating Equipment

UL 1081 Swimming Pool Pumps, Filters and Chlorinators

UL 1082 Household Electric Coffee Makers and Brewing-Type Appliances

UL 1083 Household Electric Skillets and Frying-Type Appliances

UL 1230 Amateur Movie Lights

UL 1236 Battery Chargers for Charging Engine-Starter Batteries

UL 1240 Electric Commercial Clothes-Drying Equipment

UL 1278 Movable and Wall-or Ceiling-Hung Electric Room Heaters

UL 1310 Class 2 Power Units

UL 1409 Low-Voltage Video Products Without Cathode-Ray-Tube Displays

UL 1411 Transformers and Motor Transformers for Use In Audio-, Radio-,and Television-Type Appliances

UL 1418 Implosion-Protected Cathode-Ray Tubes for Television-Type Appliances

UL 1419 Professional Video and Audio Equipment

UL 1431 Personal Hygiene and Health Care Appliances

UL 1445 Electric Water Bed Heaters

UL 1459 Telephone Equipment

UL 1559 Insect-Control Equipment, Electrocution Type

UL 1561 Dry Type General Purpose and Power Transformers

UL 1563 Electric Spas, Equipment Assemblies, and Associated Equipment

UL 1564 Industrial Battery Chargers

UL 1570 Fluorescent Lighting Fixtures

UL 1571 Incandescent Lighting Fixtures

UL 1572 High Intensity Discharge Lighting Fixtures

UL 1573 Stage and Studio Lighting Units

UL 1574 Track Lighting Systems

UL 1585 Class 2 and Class 3 Transformers

UL 1594 Sewing and Cutting Machines

UL 1598 Luminaries

UL 1647 Motor-Operated Massage and Exercise Machines

UL 1693 Electric Radiant Heating Panels and Heating Panel Sets

UL 1727 Commercial Electric Personal Grooming Appliances

UL 1776 High-Pressure Cleaning Machines

UL 1786 Nightlights

UL 1795 Hydromassage Bathtubs

UL 1838 Low Voltage Landscape Lighting Systems

ANSI/UL 1950 Information Technology Equipment Including Electrical Business Equipment

UL 1995 Heating and Cooling Equipment

UL 2021 Fixed and Location-Dedicated Electric Room Heaters

UL 2157 Electric Clothes Washing Machines and Extractors

UL 2158 Electric Clothes Dryers

UL 2601-1 Medical Electrical Equipment; Part 1: General Requirements for Safety

UL 3101-1 Electrical Equipment for Laboratory Use; Part 1: General Requirements

UL 3111-1 Electrical Measuring and Test Equipment; Part 1: General Requirements

UL 3121-1 Process Control Equipment

UL 6500 Audio/Video and Musical Instrument Apparatus for Household, Commercial, and Similar General Use

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-8 Automatic Electrical Controls for Household and Similar Use; Part 2: Particular Requirements for Electrically Operated Water Valves

UL 60335-1 Safety of Household and Similar Electrical Appliances, Part 1; General Requirements

At the time of preparation of the preliminary notice, some of the test standards for which OSHA currently recognizes TUV, and which are listed above, have been withdrawn or replaced by the standards developing organization. Under OSHA policy regarding such withdrawn or replaced test standards, OSHA can no longer recognize the NRTL for the test standards but the NRTL may request recognition for comparable test standards, i.e., other appropriate test standards covering similar types of product testing. However, a number of other NRTLs also are recognized for these withdrawn or replaced standards. As a result, OSHA will publish a separate notice to make the appropriate substitutions for TUV and the other NRTLs that were recognized for these standards.

OSHA's recognition of TUV, or any NRTL, for a particular test standard is limited to equipment or materials (i.e., products) for which OSHA standards require third party testing and certification before use in the workplace. Consequently, an NRTL's scope of recognition excludes any product(s) falling within the scope of a test standard for which OSHA has no NRTL testing and certification requirements.

Many of the test standards listed above are approved as American National Standards by the American National Standards Institute (ANSI). However, for convenience in compiling the list, we use the designation of the standards developing organization (e.g., UL 1004) for the standard, as opposed to the ANSI designation (e.g., ANSI/UL 1004). Under our procedures, an NRTL recognized for an ANSI-approved test standard may use either the latest proprietary version of the test standard or the latest ANSI version of that standard, regardless of which version appears in the list of test standards found in OSHA's informational web page for the NRTL. Contact ANSI or the ANSI web site (http://www.ansi.org) and click “NSSN” to find out whether or not a test standard currently is ANSI-approved.

Conditions

TUV Rheinland of North America, Inc., must also abide by the following conditions of the recognition, in addition to those already required by 29 CFR 1910.7:

TUV must have specific written testing procedures in place before testing products covered by any test standard for which it is recognized and must use these procedures in testing and certifying those products;

OSHA must be allowed access to the TUV facilities and records for purposes of ascertaining continuing compliance with the terms of its recognition and to investigate as OSHA deems necessary;

If TUV has reason to doubt the efficacy of any test standard it is using under this program, it must promptly inform the organization that developed the test standard of this fact and provide that organization with appropriate relevant information upon which its concerns are based;

TUV must not engage in or permit others to engage in any misrepresentation of the scope or conditions of its recognition. As part of this condition, TUV agrees that it will allow no representation that it is either a recognized or an accredited Nationally Recognized Testing Laboratory (NRTL) without clearly indicating the specific equipment or material to which this recognition is tied, or that its recognition is limited to certain products;

TUV must inform OSHA as soon as possible, in writing, of any change of ownership, facilities, or key personnel, and of any major changes in its operations as an NRTL, including details;

TUV will continue to meet all the terms of its recognition and will always comply with all OSHA policies pertaining to this recognition; and

TUV will continue to meet the requirements for recognition in all areas where it has been recognized.

Signed at Washington, DC this 8th day of March, 2002.
John L. Henshaw,
Assistant Secretary.

[FR Doc. 02-6448 Filed 3-15-02; 8:45 am]

BILLING CODE 4510-26-P